DEPARTMENT OF THE INTERIOR

Bureau of Reclamation

San Luis Low Point Improvement Project, California

AGENCY: Bureau of Reclamation, Interior.

ACTION: Notice of intent (NOI) to prepare an environmental impact statement/environmental impact report (EIS/EIR) and notice of public scoping meetings.

SUMMARY: Pursuant to the National Environmental Policy Act and the California Environmental Quality Act, the Bureau of Reclamation (Reclamation) and the Santa Clara Valley Water District, in coordination with the San Luis and Delta Mendota Water Authority, intend to prepare an EIS/EIR for the San Luis Low Point Improvement Project (Low Point Project). Reclamation is the lead Federal agency and Santa Clara Valley Water District is the lead State agency for preparation of the EIS/EIR.

The Low Point Project is designed to address water supply reliability issues in San Luis Reservoir associated with conditions occurring in summer months when water levels are low. During this time, reservoir-wide growth of algae makes the water unsuitable for certain agricultural and municipal and industrial users in the San Felipe Division with existing treatment facilities (also known as the “low point issue”).

DATES: A series of public scoping meetings will be held to solicit public input on alternatives, concerns, and issues to be addressed in the EIS/EIR. The meeting dates are as follows:

• September 10, 2008, 4:30 p.m. to 7:45 p.m., San Jose, CA.

• September 11, 2008, 10 a.m. to 12 p.m., Sacramento, CA.

• September 11, 2008, 5 p.m. to 9 p.m., Los Banos, CA.

Written comments must be received by October 28, 2008.

ADDRESSES: The public scoping meeting locations are:

• San Jose at the Rose Garden Public Library, 1580 Naglee Avenue.

• Sacramento at the Federal Building, 2800 Cottage Way, Cafeteria Conference Rooms C-1001 and C-1002.

• Los Banos at the Miller and Lux Community Center, 830 Sixth Street.

Written comments on the scope of the EIS/EIR should be sent to Ms. Lynnette Wirth, Bureau of Reclamation, 2800 Cottage Way, Public Affairs, Sacramento, CA 95825, e-mailed to lwirth@mp.usbr.gov, or faxed to 916-978-5114.

FOR FURTHER INFORMATION CONTACT: Ms. Sharon McHale, Reclamation Project Manager, at the above address, 916-978-5086 (TDD 916-978-5608), or via e-mail at: smchale@mp.usbr.gov; or Ms. Tracy Ligon, Santa Clara Valley Water District, 5750 Almaden Expressway, San Jose, CA 95118-3686, at 408-265-2600 x2569 or via e-mail at: tligon@valleywater.org.

SUPPLEMENTARY INFORMATION: San Luis Reservoir is a jointly shared off-stream storage facility providing Reclamation and the State of California the ability to store water during wet seasons and deliver it during dry seasons. Use of the reservoir helps to maximize Central Valley Project (CVP) and State Water Project supplies and contract deliveries. Any constraint in the release of water from San Luis Reservoir, including maintaining water levels to avoid the low point issue, could limit water supplies.

The Low Point Project is designed to address water supply reliability issues in San Luis Reservoir associated with the low point issue. The low point issue arises when water levels fall below 300 thousand acre-feet (TAF), creating a water quality restriction (algae blooms) that has the potential to interrupt a portion of the San Felipe Division's water supply. The low point issue may affect the ability of San Luis Reservoir to provide water supply reliability and deliveries to south-of-Delta contractors.

Conditions at San Luis Reservoir promote the growth of reservoir-wide algae during the summer months, when the reservoir reaches the lower water surface elevations (approximately 300 TAF). Algae blooms vary in size in different years, but generally reach diversion facilities when the reservoir has 300 TAF of water remaining in storage. The water quality within the algal blooms is not suitable for agricultural water users with drip irrigation systems in San Benito County or for municipal and industrial water users relying on existing water treatment facilities in Santa Clara County. Reaching 300 TAF creates a risk for the San Felipe Division contractors because the San Luis Reservoir is the only CVP water source point that they can access.

The project location is focused around San Luis Reservoir in Merced County. The project also includes the service areas of the CVP San Felipe Division in Santa Clara and San Benito Counties, and other CVP contractors within the San Luis and Delta Mendota Water Authority in the western San Joaquin Valley.

Background

One of the options identified in the 2000 CALFED Programmatic Record of Decision was a bypass canal that would connect the San Felipe Division to water delivered by the Sacramento-San Joaquin River Delta pumping facilities, to increase use of water in San Luis Reservoir by up to 200 TAF.

Reclamation issued a Notice of Intent (NOI) for a similar project on July 17, 2002. The participating agencies conducted scoping meetings, and the results of those meetings have been incorporated into this project. After publishing the initial NOI, the project focus has broadened, which has resulted in new planning objectives. The agencies have decided to re-issue the NOI and conduct new scoping meetings because of the length of time that has passed and the change in project objectives.

Objectives

The overall objective of the Low Point Project is to optimize the water supply benefit of San Luis Reservoir while reducing additional risks to water users by:

• Avoiding supply interruptions when water is needed by increasing the certainty of meeting the requested delivery schedule throughout the year to south-of-Delta contractors dependent on San Luis Reservoir;

• Increasing the reliability and quantity of yearly allocations to south-of-Delta contractors dependent on San Luis Reservoir; and

• Announcing higher allocations earlier in the season to south-of-Delta contractors dependent on San Luis Reservoir without sacrificing accuracy of the allocation forecasts.

The Low Point Project may also provide opportunities for ecosystem restoration.

Alternatives

Initial alternatives fall into seven general categories:

• Institutional: Non-structural measures, including agreements and exchanges that would reduce the likelihood of San Luis Reservoir reaching its functional low point or would provide alternate supplies for the San Felipe Division during times when the functional low point is reached.

• Source Water Quality Control: Improvements to San Luis Reservoir water quality that would reduce water supply interruptions for the San Felipe Division while continuing supplies for the rest of the San Luis and Delta-Mendota users.

• Water Treatment: New or enhanced raw water treatment capabilities using dissolved air flotation that could treat San Luis Reservoir water and reduce or eliminate interrupted deliveries when algae blooms are in the vicinity of the Pacheco Intake.

• Conveyance: Facilities that would allow San Felipe Division CVP supplies to bypass the San Luis Reservoir altogether or change the location of the San Felipe Division's intake so that low water levels and algae are not a problem.

• Storage: Facilities that would create additional storage, either on the San Felipe side of San Luis Reservoir or within the Central Valley, to provide an alternate water supply.

• Alternate Water Supplies: Measures that would provide a new source of water to users in the San Felipe Division, reducing their demands on San Luis Reservoir water supplies.

• Combination Alternative: Measures that work best in combination, augmenting efficient use of existing available water supplies and facilities to resolve the low point problem. The Alternative Water Supplies concept incorporates multiple strategies, such as source shifting, new supply development, additional treatment technology, reoperation, and operational agreements, which build upon one another either incrementally or in total, to achieve water supply reliability, water quality, and system flexibility project objectives and opportunities.

Special Assistance for Public Scoping Meetings

If special assistance is required at the public hearings, please contact Ms. Lynnette Wirth at 916-978-5100, TDD 916-978-5608, or via e-mail at lwirth@mp.usbr.gov. Please notify Ms. Wirth as far in advance as possible to enable Reclamation to secure the needed services. If a request cannot be honored, the requestor will be notified. A telephone device for the hearing impaired (TDD) is available at 916-978-5608.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: August 8, 2008.
Susan M. Fry,
Regional Environmental Officer, Mid-Pacific Region.

[FR Doc. E8-20104 Filed 8-28-08; 8:45 am]

BILLING CODE 4310-MN-P